FEDERAL COMMUNICATIONS COMMISSION

[FR ID 287845]

Deletion of Item From March 27, 2025 Open Meeting

March 25, 2025.

The following item has been adopted by the Commission and deleted from the list of items scheduled for consideration at the Thursday, March 27, 2025, Open Meeting. The item was previously listed in the Commission's Sunshine Notice on Thursday, March 20, 2025.

Item No. | Bureau | Subject
4 | Media Bureau | TITLE: Restricted adjudicatory matter. Summary: The Commission will consider a restricted adjudicatory matter from the Media Bureau.

Authority: This meeting is held, in accordance with the Government in the Sunshine Act (Sunshine Act), Public Law 94-409, as amended (5 U.S.C. 552b).

Federal Communications Commission.
Marlene Dortch,
Secretary.

[FR Doc. 2025-05695 Filed 4-2-25; 8:45 am]

BILLING CODE 6712-01-P